DEPARTMENT OF THE INTERIOR

Fish and Wildlife Service

[Docket No. FWS-R3-FAC-2023-0096; FF03F43100-XXXF1611NR; OMB Control Number 1018-0179]

Agency Information Collection Activities; Sea Lamprey Control Program

AGENCY: Fish and Wildlife Service, Interior.

ACTION: Notice of information collection; request for comment.

SUMMARY: In accordance with the Paperwork Reduction Act of 1995, we, the U.S. Fish and Wildlife Service (Service), are proposing to renew an information collection, without change.

DATES: Interested persons are invited to submit comments on or before August 25, 2023.

ADDRESSES: Send your comments on the information collection request (ICR) by one of the following methods (please reference 1018-0179 in the subject line of your comments):

• Internet (preferred): https://www.regulations.gov. Follow the instructions for submitting comments on Docket No. FWS-R3-FAC-2023-0096.

• Email: Info_Coll@fws.gov.

• U.S. mail: Service Information Collection Clearance Officer, U.S. Fish and Wildlife Service, 5275 Leesburg Pike, MS: PRB (JAO/3W), Falls Church, VA 22041-3803.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Service staff at the Marquette and Ludington biological stations fulfill U.S. obligations under the Convention on Great Lakes Fisheries Between the United States of America and Canada, Washington, 1954, and the Great Lakes Fishery Act of 1956 (16 U.S.C. 931 et seq.). The Service works with State, Tribal, and other Federal agencies to monitor progress towards fish community objectives for sea lampreys in each of the Great Lakes, and also to develop and implement actions to achieve these objectives. Activities are closely coordinated with those of State, Tribal, and other Federal and provincial management agencies, nongovernmental organizations, private landowners, and the public. Our primary goal is to conduct ecologically sound and publicly acceptable integrated sea lamprey control.

The Sea Lamprey Control Program is administered and funded by the Great Lakes Fishery Commission (GLFC) and implemented by two control agents, the U.S. Fish and Wildlife Service and Fisheries and Oceans Canada, who often partner on larger projects. The sea lamprey (Petromyzon marinus), a parasitic fish species native to the Atlantic Ocean, parasitizes other fish species by sucking their blood and other bodily fluids. Having survived through at least four major extinction events, the species has remained largely unchanged for more than 340 million years. The sea lamprey differs from many other fishes, in that it does not have jaws or other bony structures, but instead has a skeleton made of cartilage. Sea lampreys prey on most species of large Great Lakes fish such as lake trout, salmon, lake sturgeon, whitefish, burbot, walleye, and catfish.

In the 1800s, sea lampreys invaded the Great Lakes system via manmade locks and shipping canals. Their aggressive behavior and appetite for fish blood wreaked havoc on native fish populations, decimating an already vulnerable lake trout fishery. The first recorded observation of a sea lamprey in the Great Lakes was in 1835 in Lake Ontario. For a time, Niagara Falls served as a natural barrier, confining sea lampreys to Lake Ontario and preventing them from entering the remaining four Great Lakes. However, in the early 1900s, modifications were made to the Welland Canal, which bypasses Niagara Falls and provides a shipping connection between Lakes Ontario and Erie. These modifications allowed sea lampreys access to the rest of the Great Lakes system. Within a short time, sea lampreys spread throughout the system: into Lake Erie by 1921, Lakes Michigan and Huron by 1936 and 1937, and Lake Superior by 1938. Sea lampreys were able to thrive once they invaded the Great Lakes because of the availability of excellent spawning and larval habitat, an abundance of host fish, a lack of predators, and their high reproductive potential—a single female can produce as many as 100,000 eggs.

The Sea Lamprey Control Program (SLCP) maintains an internal database. In existence for more than 20 years, it contains information critical to the delivery and evaluation of an integrated control program to manage invasive sea lamprey populations in the five Great Lakes. The storage of data in this database not only documents the history of the SLCP since inception in 1953, but it also provides data to steer assessment and control of invasive sea lamprey populations in the Great Lakes in partnership with the GLFC. We provide annual population data to Federal and State regulatory agencies to inform critical evaluations used to receive the appropriate permits to allow us to conduct sea lamprey control actions.

The SLCP database maintains the points of contact for landowners to request landowner permission to access their land for treatment. The Service collects basic contact information for the landowner (name, home address, phone number, cell phone number, and email address), along with alternate contact information, whether they allow access to their land, methods of transportation allowed on property, whether a gate key or gate combination is needed to access the land, whether the landowner irrigates the land, and an opportunity to ask additional questions about treatment or sea lamprey management.

Title of Collection: Sea Lamprey Control Program.

OMB Control Number: 1018-0179.

Form Number: None.

Type of Review: Extension of a currently approved collection.

Respondents/Affected Public: Individuals, private sector, and State/local/Tribal governments.

Total Estimated Number of Annual Respondents: 440.

Total Estimated Number of Annual Responses: 440.

Estimated Completion Time per Response: 5 minutes.

Total Estimated Number of Annual Burden Hours: 37 (rounded).

Respondent's Obligation: Voluntary.

Frequency of Collection: Annually.

Total Estimated Annual Nonhour Burden Cost: None.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-13435 Filed 6-23-23; 8:45 am]

BILLING CODE 4333-15-P